FEDERAL COMMUNICATIONS COMMISSION

47 CFR Parts 15, 73, and 74

[MB Docket No. 15-146; GN Docket No. 12-268; DA 15-918]

Preserving Vacant Channels in the UHF Television Band for Unlicensed Use

AGENCY: Federal Communications Commission.

ACTION: Proposed rule.

SUMMARY: In this document, the Media Bureau of the Federal Communications Commission (Commission) provides notice of the revised comment and reply comment deadlines in this proceeding. The comment period in this proceeding has previously been suspended pending action in the Commission's incentive auction proceeding and the Media Bureau announces that it has been restarted and the new deadlines for filing comments and reply comments.

DATES: Comments Due: September 30, 2015. Reply Comments Due: October 30, 2015.

ADDRESSES: You may submit comments, identified by MB Docket No. 15-146 and GN Docket No. 12-268, by any of the following methods:

• Federal eRulemaking Portal: http://www.regulations.gov. Follow the instructions for submitting comments.

• Federal Communications Commission's Web site: http://www.fcc.gov/cgb/ecfs/. Follow the instructions for submitting comments.

• Mail: Filings can be sent by hand or messenger delivery, by commercial overnight courier, or by first-class or overnight U.S. Postal Service mail (although we continue to experience delays in receiving U.S. Postal Service mail.) All filings must be addressed to the Commission's Secretary, Office of the Secretary, Federal Communications Commission.

• People with Disabilities: Contact the FCC to request reasonable accommodations (accessible format documents, sign language interpreters, CART, etc.) by email: FCC504@fcc.gov or phone: 202-418-0530 or TTY: 202-418-0432.

FOR FURTHER INFORMATION CONTACT: Shaun Maher, Shaun.Maher@fcc.gov of the Media Bureau, Video Division, (202) 418-2324, and Paul Murray, Paul.Murray@fcc.gov of the Office of Engineering and Technology, (202) 418-0688.

SUPPLEMENTARY INFORMATION: This is a summary of the Media Bureau's Order, DA 15-918, adopted August 12, 2015, in MB Docket No. 15-146 (Order). The full text of the Order is available for inspection and copying during regular business hours in the FCC Reference Center, 445 12th Street SW., Room CY-A257, Portals II, Washington, DC 20554. This document is available in alternative formats (computer diskette, large print, audio record, and Braille). Persons with disabilities who need documents in these formats may contact the FCC by email: FCC504@fcc.gov or phone: 202-418-0530 or TTY: 202-418-0432.

Synopsis

1. On June 16, 2015, the Commission released a Notice of Proposed Rulemaking, 30 FCC Rcd 6711 (2015) in MB Docket No. 15-146 (Vacant Channel NPRM) seeking comment on rules to preserve vacant television channels for shared use by white space devices and wireless microphones. On July 29, 2015, the Media Bureau, in an Order, DA 15-867, on delegated authority, suspended the comment and reply comment deadlines in this proceeding until further notice.

2. In its document, FCC 15-78, released August 11, 2015 (Auctions Procedures PN), the Commission adopted its proposal to allow the optimization tool to assign television stations within the 600 MHz Band where necessary to accommodate market variation in a manner that best fulfills the clearing target objectives, and not to restrict it to assignments in specific portions of the 600 MHz Band, including the duplex gap. To mitigate the potential impact on white space devices and wireless microphones in areas where the duplex gap is subject to impairment, the Commission tentatively concluded that it will designate a second available television channel in the remaining television band in such areas for shared use by white space devices and wireless microphones, in addition to the one such channel it has tentatively concluded will be made available in each area of the United States for shared use by these devices and microphones. The Commission invited comment on this tentative conclusion and stated that it intends to address in the same order all proposals in the Vacant Channel NPRM as well as the proposals raised in the Auctions Procedures PN. To that end, the Commission directed the Media Bureau to establish new comment and reply deadlines of September 30 and October 30, 2015, respectively, for the proposals in the Vacant Channel NPRM as well as the proposal in paragraph 32 of the Auctions Procedures PN.

3. By this Order, as directed by the Commission in the Auctions Procedures PN, the Media Bureau announces that comments are now due on September 30, 2015 and reply comments on October 30, 2015.

Kevin Harding,
Associate Chief, Video Division, Media Bureau.

[FR Doc. 2015-23380 Filed 9-17-15; 8:45 am]

BILLING CODE 6712-01-P